INTERNATIONAL TRADE COMMISSION

[Investigation Nos. 731-TA-1588-1590 (Final)]

Certain Preserved Mushrooms From the Netherlands, Poland, and Spain

Determinations

On the basis of the record ¹ developed in the subject investigations, the United States International Trade Commission (“Commission”) determines, pursuant to the Tariff Act of 1930 (“the Act”), that an industry in the United States is materially injured by reason of imports of certain preserved mushrooms from the Netherlands, Poland, and Spain, provided for in subheading 2003.10.01 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 88 FR 18115, 88 FR 18118, and 88 FR 18120 (March 27, 2023).

Background

The Commission instituted these investigations effective March 31, 2022, following receipt of petitions filed with the Commission and Commerce by Giorgio Foods, Inc., Blandon, Pennsylvania. The Commission established a general schedule for the conduct of the final phase of its investigations on certain preserved mushrooms, following a preliminary determination by Commerce that imports of certain preserved mushrooms from France were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of September 21, 2022 (87 FR 57717). The Commission conducted its hearing on November 17, 2022. All persons who requested the opportunity were permitted to participate.

The investigations schedules became staggered when Commerce did not postpone the final determination for its antidumping duty investigation of certain preserved mushrooms from France, while it did postpone the final determinations for its antidumping duty investigations of certain preserved mushrooms from the Netherlands, Poland, and Spain. On January 12, 2023, the Commission issued a final affirmative determination in its antidumping duty investigation of certain preserved mushrooms from France (88 FR 2971, January 18, 2023). Following notification of a final determination by Commerce that imports of certain preserved mushrooms from the Netherlands, Poland, and Spain were being sold at LTFV within the meaning of section 735(a) of the Act (19 U.S.C. 1673d(a)), notice of the supplemental scheduling of the final phase of the Commission's antidumping duty investigations was given by posting copies of the notice in the Office of the Secretary, U.S. International Trade Commission, Washington, DC, and by publishing the notice in the Federal Register of April 5, 2023 (88 FR 20187).

The Commission made these determinations pursuant to § 735(b) of the Act (19 U.S.C. 1673d(b)). It completed and filed its determinations in these investigations on May 11, 2023. The views of the Commission are contained in USITC Publication 5419 (May 2023), entitled Certain Preserved Mushrooms from the Netherlands, Poland, and Spain: Investigation Nos. 731-TA-1588-1590 (Final).

By order of the Commission.
Issued: May 11, 2023.
Katherine Hiner,
Supervisory Attorney.

[FR Doc. 2023-10439 Filed 5-16-23; 8:45 am]

BILLING CODE 7020-02-P